DEPARTMENT OF DEFENSE

Office of the Secretary

[Docket ID: DoD-2022-OS-0030]

Proposed Collection; Comment Request

AGENCY: Defense Counterintelligence and Security Agency (DCSA), Department of Defense (DoD).

ACTION: 60-Day information collection notice.

SUMMARY: In compliance with the Paperwork Reduction Act of 1995, the Defense Counterintelligence and Security Agency announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by May 16, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Counterintelligence and Security Agency, Systems Management Branch, 27130 Telegraph Road, Quantico, VA 22134, ATTN: Ms. Whitney Abbott, or call 571-305-6073.

SUPPLEMENTARY INFORMATION:

Title; Associated Form; and OMB Number: National Industrial Security Program Contracts Classification System; DD Form 254; OMB Control Number 0704-0567.

Needs and Uses: Pursuant to 48 CFR 27, in conjunction with subpart 4.4 of the Federal Acquisition Regulation, contracting officers shall determine whether access to classified information may be required by a contractor during contract performance. DoD Components shall use the DD Form 254, “Contract Security Classification Specification,” as an attachment to contracts or agreements requiring access to classified information by U.S. contractors. The DD Form 254 is used to identify the classified areas of information involved in a contract and the specific items of information that require protection. The National Industrial Security Program (NISP) Contract Classification System (NCCS) is the electronic repository for the DD Form 254. NCCS expedites the processing and distribution of contract classification specifications for contracts requiring access to classified information. NCCS also has a built-in automated process for the Request for Approval to Subcontract and provides workflow support for the Facility Clearance Request and National Interest Determination processes.

Affected Public: Business or other for profit.

Annual Burden Hours: 28,800.

Number of Respondents: 8,000.

Responses per Respondent: 6.

Annual Responses: 48,000.

Average Burden per Response: 36 minutes.

Frequency: On occasion.

Respondents are cleared contractor facilities in the National Industrial Security Program under the security cognizance of DCSA. Pursuant to security classification guidance in 32 CFR part 117, NISP contractors must provide contract security classification specifications with any contract or agreement that they propose or award. DD Form 254 is the official vehicle for providing this information. A respondent submits completed DD Form 254 with any attachments to the applicable subcontractor and to the DoD NISP Cognizant Security Office for evaluation. Once the DD Form 254 is submitted, it is reviewed by Government Security personnel to ensure access language is present. Following review, Government Contracting Officers certify and release the DD Form 254 to the Industry Commercial and Government Entity referenced within the DD Form 254.

Dated: March 8, 2022.
Aaron T. Siegel,
Alternate OSD Federal Register Liaison Officer, Department of Defense.

[FR Doc. 2022-05454 Filed 3-14-22; 8:45 am]

BILLING CODE 5001-06-P